DEPARTMENT OF HEALTH AND HUMAN SERVICES

Food and Drug Administration

Science and Regulation of Biological Products: From a Rich History to a Challenging Future; Public Symposium

AGENCY: Food and Drug Administration, HHS.

ACTION: Notice of public symposium.

The Food and Drug Administration (FDA) is announcing a public symposium entitled “Science and Regulation of Biological Products: From a Rich History to a Challenging Future.” The purpose of the symposium is to commemorate the 100th anniversary of the enactment of the Biologics Control Act, the first Federal law regulating biological products. The symposium is dedicated to the memory and achievements of Dr. Harry Meyer, Jr., who, together with Dr. Paul Parkman, developed the first licensed rubella virus vaccine. The Center for Biologics Evaluation and Research (CBER) staff and invited guests will present scientific lectures describing the achievements of the past and the challenges of the future in the areas regulated by CBER (blood, vaccines, and therapeutic biological products).

Date and Time: The public symposium will be held on Monday, September 23, 2002, from 8:30 a.m. to 5 p.m., and Tuesday, September 24, 2002, from 8:30 a.m. to 12 noon.

Location: The public symposium will be held at the National Institutes of Health (NIH), Natcher Conference Center, Bldg. 45, 45 Center Dr., Bethesda, MD.

Contact:

For information about this notice: Michael D. Anderson, Center for Biologics Evaluation and Research (HFM-17), Food and Drug Administration, 1401 Rockville Pike, Rockville, MD 20852, 301-827-6210, FAX 301-594-1944.

For information about the public symposium: Gail Sherman, Center for Biologics Evaluation and Research (HFM-42), Food and Drug Administration, 1401 Rockville Pike, Rockville, MD 20852, 301-827-2000, FAX 301-827-3079, e-mail: Sherman@cber.fda.gov.

Registration: Mail, fax, or e-mail your registration information (including name, professional degree, title, e-mail address, firm name, address, telephone, and fax number) to Gail Sherman by September 1, 2002. There is no registration fee for the public symposium. Space is limited, therefore, interested parties are encouraged to register early. There will be no onsite registration.

Travel Information: The NIH campus is accessible via the Washington, DC metro system, Red Line, at the Medical Center stop. The Natcher Conference Center is a short walk from the metro station, or you may take one of the many shuttle buses that run from the metro station to the various buildings on the campus. Due to newly imposed security measures, visitors parking is limited and use of private vehicles may cause significant delays in entering the campus.

If you need special accommodations due to a disability, please contact Gail Sherman at least 7 days in advance.

Dated: July 11, 2002.
Margaret M. Dotzel,
Associate Commissioner for Policy.

[FR Doc. 02-18039 Filed 7-16-02; 8:45 am]

BILLING CODE 4160-01-S